ENVIRONMENTAL PROTECTION AGENCY

[FRL-7984-1]

Science Advisory Board Staff Office; Notification of an Upcoming Science Advisory Board Meeting (Teleconference)

AGENCY: Environmental Protection Agency (EPA).

ACTION: Notice.

SUMMARY: The EPA Science Advisory Board (SAB) Staff Office announces a public teleconference meeting of the chartered SAB to discuss a draft SAB report.

DATES: November 7, 2005, 1-3 p.m. (Eastern Time).

ADDRESSES: The meeting will take place via telephone only.

FOR FURTHER INFORMATION CONTACT: Members of the public who wish to obtain the call-in number and access code to participate in the telephone conference or who wish to obtain further information regarding this teleconference meeting may contact Mr. Thomas O. Miller, Designated Federal Officer (DFO), Science Advisory Board Staff Office (1400F), U.S. EPA, 1200 Pennsylvania Avenue, NW., Washington, DC 20460; or via telephone/voice mail at (202) 343-9982 or via e-mail at miller.tom@epa.gov. General information about the SAB, as well as any updates concerning the meeting announced in this notice, may be found on the SAB Web site at: http://www.epa.gov/sab.

SUPPLEMENTARY INFORMATION: The purpose of this SAB telephone conference meeting is to conduct a final public review and discussion of the draft SAB report Review of EPA's Draft Framework for Inorganic Metals Risk Assessment. The focus of the meeting is to consider whether: (i) The original charge questions to the SAB review panel have been adequately addressed in the draft report, (ii) the draft report is clear and logical; and (iii) the conclusions drawn, or recommendations made in the draft report, are supported by the body of the report.

Background: Background on the EPA metals Risk Assessment was provided in a Federal Register Notice published on July 29, 2004 (69 FR 45314-45315). EPA has been undertaking an effort to develop cross-Agency guidance for assessing the human health and ecological hazards and risks of metals and metal compounds. EPA developed the draft guidance document entitled, “Framework for Inorganic Metals Risk Assessment,” to supplement previous EPA guidance for use in site-specific risk assessments, criteria derivation, and other similar Agency activities related to metals. The guidance is organized around the risk assessment paradigm. The document provides a conceptual model that highlights areas where consideration of metal-specific information is necessary and advantageous when conducting risk assessments. It outlines recommendations for conducting risk assessment for metals and metal compounds based on the unique attributes of these compounds. The guidance document also discusses metal-specific issues related to environmental chemistry, exposure, bioaccumulation and bioavailability, ecological effects, and human health effects. In addition, the guidance discusses research underway, planned, and needed to reduce uncertainty in metals risk assessment.

Availability of Meeting Materials: A roster of participating SAB members and the meeting agenda will be posted on the SAB Web site prior to the meeting. The draft report that is the subject of this meeting is available on the SAB Web site at: http://www.epa.gov/sab.

Procedures for Providing Public Comment: The SAB Staff Office accepts written public comments of any length, and accommodates oral public comments whenever possible. The SAB Staff Office expects that public statements presented at SAB meetings will not be repetitive of previously submitted oral or written statements. Oral Comments: In general, each individual or group requesting an oral presentation at a teleconference meeting will usually be limited to no more than three minutes per speaker and no more than fifteen minutes total for all speakers. Interested parties should contact the DFO noted above in writing via e-mail at least one week prior to the meeting in order to be placed on the public speaker list for the meeting. Speakers should provide an electronic copy of their comments to the DFO for distribution to interested parties and participants in the meeting. Written Comments: Although written comments are accepted until the date of the meeting (unless otherwise stated), written comments should be received in the SAB Staff Office at least one week prior to the meeting date so that the comments may be made available to the committee for their consideration. Comments should be supplied to the DFO at the address/contact information above in the following formats: one hard copy with original signature, and one electronic copy via e-mail (acceptable file format: Adobe Acrobat, WordPerfect, Word, or Rich Text files (in IBM-PC/Windows 98/2000/XP format).

Accessibility: For information on access or services for individuals with disabilities, please contact Mr. Thomas O. Miller at (202) 343-9982 or miller.tom@epa.gov. To request accommodation of a disability, please contact Mr. Miller, preferably at least 10 days prior to the meeting, to give EPA as much time as possible to process your request.

Dated: October 7, 2005.
Anthony F. Maciorowski,
Associate Director for Science, EPA Science Advisory Board Staff Office.

[FR Doc. 05-20704 Filed 10-14-05; 8:45 am]

BILLING CODE 6560-50-P